DEPARTMENT OF AGRICULTURE

Forest Service

Agency Information Collection Activities; Proposals, Submissions, and Approvals; Correction

June 1, 2009.

AGENCY: Forest Service, USDA.

ACTION: Notice; correction.

SUMMARY: The Department of Agriculture published a document in the Federal Register of May 28, 2009, concerning a request for comments on the information collection “Special Use Administration” OMB control number 0596-0082. The document contained incorrect burden hours. The total burden hours should be 161,365 not 247,107 as published.

Charlene Parker,
Departmental Information Collection Clearance Officer.

[FR Doc. E9-13048 Filed 6-3-09; 8:45 am]

BILLING CODE 3410-11-P